FEDERAL EMERGENCY MANAGEMENT AGENCY

44 CFR Part 65

[Docket No. FEMA-P-7616]

Changes in Flood Elevation Determinations

AGENCY: Federal Emergency Management Agency, (FEMA).

ACTION: Interim rule.

SUMMARY: This interim rule lists communities where modification of the Base (1-percent-annual-chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for the listed communities.

From the date of the second publication of these changes in a newspaper of local circulation, any person has ninety (90) days in which to request through the community that the Administrator for Federal Insurance and Mitigation Administration reconsider the changes. The modified BFEs may be changed during the 90-day period.

ADDRESSES: The modified BFEs for each community are available for inspection at the office of the Chief Executive Officer of each community. The respective addresses are listed in the table below.

FOR FURTHER INFORMATION CONTACT: Matthew B. Miller, P.E., Chief, Hazards Study Branch, Federal Insurance and Mitigation Administration, 500 C Street, SW., Washington, DC 20472, (202) 646-3461 or (e-mail) matt.miller@fema.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act

This rule is categorically excluded from the requirements of 44 CFR part 10, Environmental Consideration. No environmental impact assessment has been prepared.

Regulatory Flexibility Act

The Administrator for Federal Insurance and Mitigation Administration certifies that this rule is exempt from the requirements of the Regulatory Flexibility Act because modified BFEs are required by the Flood Disaster Protection Act of 1973, 42 U.S.C. 4105, and are required to maintain community eligibility in the NFIP. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and record keeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Arkansas:
Faulkner (01-06-1902P) | City of Conway | August 19, 2002, August 26, 2002, Log Cabin Democrat | The Honorable Tab Townsell, Mayor, City of Conway, 1201 Oak Street, Conway, Arkansas 72033 | November 25, 2002 | 050078
Washington (02-06-1260P) | City of Fayetteville | August 1, 2002, August 8, 2002, Northwest Arkansas Times | The Honorable Dan Coody, Mayor, City of Fayetteville, 113 West Markham Street, Fayetteville, Arkansas 72701 | July 23, 2002 | 050216
Illinois:
Cook (01-05-3037P) | Village of Palos Park | August 8, 2002, August 15, 2002, Daily Southtown | The Honorable Jean A. Moran, Mayor, Village of Palos Park, 8999 West 123rd Street, Palos Park, Illinois 60464 | November 14, 2002 | 170144
Will (02-05-1170P) | Village of Romeoville | August 1, 2002, August 8, 2002, The Herald News | The Honorable Fred Dewald, Jr., Mayor, Village of Romeoville, Village Hall, 13 Montrose Drive, Romeoville, Illinois 60446 | November 7, 2002 | 170711
Kansas:
Riley (02-07-667P) | City of Riley | August 15, 2002, August 22, 2002, The Riley Countian | The Honorable Gerald Baer, Mayor, City of Riley, P.O. Box 333, Riley, Kansas 66531 | November 21, 2002 | 200303
Riley (02-07-666P) | Unincorporated Areas | August 15, 2002, August 22, 2002, The Manhattan Mercury | Mr. Robert Newsome, Chairman, Riley County Commissioner, Courthouse Plaza East, 115 North 4th Street, Manhattan, Kansas 66502 | November 21, 2002 | 200298
Minnesota:
Olmsted (01-05-746P) | Unincorporated Areas | August 1, 2002, August 8, 2002, Post-Bulletin | Mr. Richard Devlin, County Administrator, Olmsted County, 151 4th Street SE, Rochester, Minnesota 55904 | July 18, 2002 | 270626
Olmsted (01-05-746P) | City of Rochester | August 1, 2002, August 8, 2002, Post-Bulletin | The Honorable Chuck Canfield, Mayor, City of Rochester, City Hall, Room 281, 201 4th Street SE, Rochester, Minnesota 55904 | July 18, 2002 | 275246
Missouri: St. Charles (01-07-726P) | City of St. Peters | August 21, 2002, August 28, 2002, St. Peters Journal | The Honorable Tom Brown, Mayor, City of St. Peters, 1 St. Peters Center Boulevard, St. Peters, Missouri 63376 | November 27, 2002 | 290319
New Mexico:
Dona Ana (02-06-1099P) | Unincorporated Areas | August 22, 2002, August 29, 2002, Las Cruces Sun News | Mr. David R. King, County Manager, Dona Ana County, County Managers Complex, 180 West Amador Avenue, Las Cruces, New Mexico 88001 | August 8, 2002 | 350012
Dona Ana (02-06-1099P) | City of Las Cruces | August 22, 2002, August 29, 2002, Las Cruces Sun News | The Honorable Ruben A. Smith, Mayor, City of Las Cruces, P.O. Box 2000, Las Cruces, New Mexico 88004 | August 8, 2002 | 355332
Ohio:
Franklin and Delaware (02-05-1027P) | City of Dublin | August 21, 2002, August 28, 2002, Dublin News | The Honorable Thomas McCash, Mayor, City of Dublin, 5200 Emerald Parkway, Dublin, Ohio 43017-1006 | November 27, 2002 | 390673
Franklin (02-05-1027P) | Unincorporated Areas | August 21, 2002, August 28, 2002, Dublin News | Mr. Dewey R. Stokes, President, Franklin County, Board of Commissioners, 373 South High Street, 26th Floor, Columbus, Ohio 43215 | November 27, 2002 | 390167
Franklin (02-05-1849P) | Unincorporated Areas | August 30, 2002, September 6, 2002, The Columbus Dispatch | Mr. Dewey R. Stokes, President, Franklin County Board of Commissioners, 373 South High Street, 26th Floor, Columbus, Ohio 43215 | December 6, 2002 | 390167
Greene (02-05-2322P) | Unincorporated Areas | August 23, 2002, August 30, 2002, Xenia Daily Gazette | Mr. Stephen Stapleton, Greene County Administrator, 35 Greene Street, Xenia, Ohio 45385 | November 29, 2002 | 390193
Lucas (02-05-2988P) | Village of Holland | August 21, 2002, August 28, 2002, The Blade | The Honorable Michael Yunker, Mayor, Village of Holland, 1245 Clarion Avenue, Holland, Ohio 43528 | July 25, 2002 | 390659
Montgomery (02-05-1438P) | City of Kettering | August 30, 2002, September 6, 2002, Kettering Oakwood Times | The Honorable Marilou Smith, Mayor, City of Kettering, 3600 Shroyer Road, Kettering, Ohio 45429 | August 19, 2002 | 390412
Greene (02-05-2322P) | City of Xenia | August 23, 2002, August 30, 2002, Xenia Daily Gazette | The Honorable John T. Saraga, Mayor, City of Xenia, 101 N. Detroit Street, Xenia, Ohio 45385 | November 29, 2002 | 390197
Texas:
Bastrop (01-06-1169P) | Unincorporated Areas | August 29, 2002, September 5, 2002, Bastrop Advertiser and County News | The Honorable Ronnie McDonald, Judge, Bastrop County, 804 Pecan Street, Bastrop, Texas 78602 | December 5, 2002 | 481193
Dallas (02-06-478P) | City of Cedar Hill | July 25, 2002, August 1, 2002, DeSoto Today | The Honorable Robert L. Franke, Mayor, City of Cedar Hill, P.O. Box 96, Cedar Hill, Texas 75106 | July 12, 2002 | 480168
Dallas (01-06-1425P) | City of Dallas | August 30, 2002, September 6, 2002, Dallas Morning News | The Honorable Laura Miller, Mayor, City of Dallas, 1500 Marilla Street, City Hall, Dallas, Texas 75201 | December 6, 2002 | 480171
Denton (02-06-355P) | City of Denton | August 23, 2002, August 30, 2002, Denton Record Chronicle | The Honorable Euline Brock, Mayor, City of Denton, 215 East McKinney Street, Denton, Texas 76201 | November 29, 2002 | 480194
Denton (01-06-1875P) | Unincorporated Areas | August 23, 2002, August 30, 2002, Denton Record Chronicle | The Honorable Kirk Wilson, Judge, Denton County, Courthouse-on-the-Square, 110 West Hickory Street, Denton, Texas 76201 | November 29, 2002 | 480774
Tarrant (02-06-830P) | City of Forth Worth | August 23, 2002, August 30, 2002, Fort Worth Star Telegram | The Honorable Kenneth Barr, Mayor, City of Fort Worth, 1000 Throckmorton Street, Fort Worth, Texas 76102 | November 29, 2002 | 480596
Tarrant (01-06-1571P) | City of Grapevine | August 22, 2002, August 29, 2002, The Grapevine Sun | The Honorable William D. Tate, Mayor, City of Grapevine, P.O. Box 95104, Grapevine, Texas 76099 | July 29, 2002 | 480598
Tarrant (02-06-046P) | City of Keller | August 13, 2002, August 20, 2002, The Keller Citizen | The Honorable David Phillips, Mayor, City of Keller, P.O. Box 770, Keller, Texas 76244-0770 | August 2, 2002 | 480602
Collin (02-06-823P) | City of Plano | August 21, 2002, August 28, 2002, Plano Star Courier | The Honorable Pat Evans, Mayor, City of Plano, P.O. Box 860358, Plano, Texas 75086-0358 | August 6, 2002 | 480140
Tarrant (02-06-830P) | City of Saginaw | August 23, 2002, August 30, 2002, Fort Worth Star Telegram | The Honorable Frankie Robbins, Mayor, City of Saginaw, 333 West McLeroy Boulevard, P.O. Box 79070, Saginaw, Texas 76179 | November 29, 2002 | 480610
Tarrant (02-06-830P) | Unincorporated Areas | August 23, 2002, August 30, 2002, Fort Worth Star Telegram | The Honorable Tom Vandergriff, Judge, Tarrant County, 100 E. Weatherford, Fort Worth, Texas 76179 | November 29, 2002 | 480582

(Catalog of Federal Domestic Assistance No. 83.100, “Flood Insurance”)

Dated: September 23, 2002.
Anthony S. Lowe,
Administrator, Federal Insurance and Mitigation Administration.

[FR Doc. 02-26214 Filed 10-15-02; 8:45 am]

BILLING CODE 6718-04-P